DEPARTMENT OF HEALTH AND HUMAN SERVICES

Health Resources and Services Administration

Agency Information Collection Activities: Submission to OMB for Review and Approval; Public Comment Request; Information Collection Request Title: Questionnaire and Data Collection Testing, Evaluation, and Research for the Health Resources and Services Administration, OMB No. 0915-0379—Extension

AGENCY: Health Resources and Services Administration (HRSA), Department of Health and Human Services.

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30 day comment period for this notice has closed.

DATES: Comments on this ICR should be received no later than June 12, 2020.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Lisa Wright-Solomon, the HRSA Information Collection Clearance Officer at paperwork@hrsa.gov or call (301) 443-1984.

SUPPLEMENTARY INFORMATION:

Information Collection Request Title: Questionnaire and Data Collection Testing, Evaluation, and Research for HRSA, OMB No. 0915-0379—Extension.

Abstract: The purpose of collections under this generic clearance is to obtain formative information from respondents to develop new questions, questionnaires and tools and to identify problems in instruments currently in use. This clearance request is limited to formative research activities emphasizing data collection, toolkit development, and estimation procedures and reports for internal decision-making and development purposes. This clearance request does not extend to the collection of data for public release or policy formation. It is anticipated that these studies will rely heavily on qualitative techniques to meet their objectives. In general, these activities are not designed to yield results that meet generally accepted standards of statistical rigor but are designed to obtain valuable formative information to develop more effective and efficient data collection tools that will yield more accurate results and decrease non-response.

A 60-day notice published in the Federal Register on March 2, 2020, vol. 85, No. 41, pp. 12307-09. There were no public comments.

Need and Proposed Use of the Information: HRSA conducts cognitive interviews, focus groups, usability tests, field tests/pilot interviews, and experimental research in laboratory and field settings, both for applied questionnaire development and evaluation as well as more basic research on response errors in surveys.

HRSA staff use various techniques to evaluate interviewer administered, self-administered, telephone, Computer Assisted Personal Interviewing (CAPI), Computer Assisted Self-Interviewing, Audio Computer-Assisted Self-Interviewing, and web-based questionnaires. Professionally recognized procedures are followed in each information collection activity to ensure high quality data. Examples of these procedures could include the following:

• Monitoring by supervisory staff of a certain percent of telephone interviews;

• Conducting cognitive interviewing techniques, including think-aloud techniques and debriefings;

• Data-entry from mail or paper-and-pencil surveys will be computerized through scannable forms or checked through double-key entry;

• Observers will monitor focus groups, and focus group proceedings will be recorded; and

• Data submitted through on-line surveys will be subjected to statistical validation techniques to ensure accuracy (such as disallowing out-of-range values).

Each request under this generic clearance will specify the procedures to be used. Participation will be fully voluntary, and non-participation will have not affect eligibility for, or receipt of, future HRSA health services research activities or grant awards, recruitment or participation. Specific testing and evaluation procedures will be described when we notify OMB about each new request. Appropriate consent procedures will be customized and used for each information collection activity and any collection of personal, privacy-protected information will be handled in accordance with all applicable requirements. If the encounter is to be recorded, the respondent's permission to record will be obtained before beginning the interview.

Screening—When screening is required (e.g., quota sampling), the screening will be as brief as possible and the screening questionnaire will be provided as part of the submission to OMB. Collection methods—The particular information collection methods used will vary, but may include the following

• Individual in-depth interviews—In-depth interviews will commonly be used to ensure that the meaning of a questionnaire or strategy is understood by the respondent. When in-depth interviewing is used, the interview guide will be provided to OMB for review.

• Focus groups—Focus groups will be used to obtain insights into beliefs and understandings of the target audience early in the development of a questionnaire or tool. When focus groups are used, the focus group discussion guide will be provided to OMB for review.

• Expert/Gatekeeper review of tools—In some instances, tools designed for patients may be reviewed in-depth by medical providers or other gatekeepers to provide feedback on the acceptability and usability of a particular tool. This would usually be in addition to pretesting of the tool by the actual patient or other user.

• Record abstractions—On occasion, the development of a tool or other information collection requires review and interaction with records rather than individuals.

• “Dress rehearsal” of a specific protocol—In some instances, the proposed pretesting will constitute a walkthrough of the intended data collection procedure. In these instances, the request will mirror what is expected to occur for the larger scale data collection.

Likely Respondents: Respondents will be recruited by means of advertisements in public venues or through techniques that replicate prospective data collection activities that are the focus of the project. For instance, a survey on physician communication, designed to be administered following an office visit, might be pretested using the same procedure. Each submission to OMB will specify the specific recruitment procedure to be used.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Type of information collection | Number of respondents | Number of responses per respondent | Total responses | Average burden per response (in hours) | Total burden hours
Mail/email ¹ | 1,000 | 1 | 1,000 | 0.26 | 260
Telephone | 1,000 | 1 | 1,000 | 0.26 | 260
Web-based | 1,000 | 1 | 1,000 | 0.25 | 250
Focus Groups | 725 | 1 | 725 | 1.00 | 725
In-person | 500 | 1 | 500 | 1.00 | 500
Automated ² | 500 | 1 | 500 | 1.00 | 500
Cognitive Testing | 500 | 1 | 500 | 1.41 | 705
Total | 5,225 |  | 5,225 |  | 3,200
¹ May include telephone non-response follow-up in which case the burden will not change.
² May include testing of database software, CAPI software, or other automated technologies.

Maria G. Button,
Director, Executive Secretariat.

[FR Doc. 2020-10247 Filed 5-12-20; 8:45 am]

BILLING CODE 4165-15-P